STATE JUSTICE INSTITUTE

Sunshine Act Meeting

DATE: Friday, March 2, 2001, 9 a.m.-5 p.m.

PLACE: 1650 King Street, Suite 600, Alexandria, VA 22314.

MATTERS TO BE CONSIDERED: Consideration of proposals submitted for Institute funding and internal Institute business.

PORTIONS OPEN TO THE PUBLIC: Consideration of proposals submitted for Institute funding.

PORTIONS CLOSED TO THE PUBLIC: Discussion of internal personnel matters.

CONTACT PERSON: David Tevelin, Executive Director, State Justice Institute, 1650 King Street, Suite 600, Alexandria, VA 22314, (703) 684-6100.

David I. Tevelin,
Executive Director.

[FR Doc. 01-3901 Filed 2-12-01; 3:59 pm]

BILLING CODE 6820-SC-M